DEPARTMENT OF COMMERCE

National Oceanic and Atmospheric Administration

RIN 0648-AW83

Atlantic Highly Migratory Species; Environmental Impact Statement for Amendment 4 to the 2006 Consolidated Atlantic Highly Migratory Species Fishery Management Plan

AGENCY: National Marine Fisheries Service (NMFS), National Oceanic and Atmospheric Administration (NOAA), Commerce.

ACTION: Notice of intent; request for comments.

SUMMARY: NMFS announces its intent to prepare an Environmental Impact Statement (EIS) under the National Environmental Policy Act (NEPA) to assess the potential effects on the human environment of proposed alternatives and actions under Amendment 4 to the 2006 Consolidated Atlantic Highly Migratory Species Fishery Management Plan (Consolidated HMS FMP). The EIS is intended to address issues regarding authorized fishing gear and fishing vessel and dealer permitting in Puerto Rico and the U.S. Virgin Islands (USVI), as well as examine management alternatives to improve vessel and dealer reporting and data collection in Puerto Rico and the USVI consistent with the Magnuson-Stevens Fishery Conservation and Management Act (Magnuson-Stevens Act), the Atlantic Tunas Convention Act (ATCA), and other relevant Federal laws. NMFS is requesting comments on the above measures including, but not limited to, permitting, revisions to the limited access permit (LAP) program, and reporting.

DATES: Comments on this action must be received by October 31, 2008.

ADDRESSES: Comments can be submitted to Russell Dunn, HMS Management Division, National Marine Fisheries Service, 263 13th Avenue South, Saint Petersburg, FL 33701. Please mark the outside of the envelope “Scoping Comments on Amendment 4 to the Consolidated HMS FMP.” Comments can also be submitted via email at noi.hms.caribbean@noaa.gov, or via fax at (727) 824-5398. Include in the subject line of the email or fax comment the following document identifier: NOI HMS Caribbean.

FOR FURTHER INFORMATION CONTACT: Russell Dunn or Greg Fairclough by phone:(727) 824-5399, or by fax: (727) 824-5398.

SUPPLEMENTARY INFORMATION: The Atlantic shark fisheries are managed under the authority of the Magnuson-Stevens Act, and the Atlantic tuna, swordfish, and billfish fisheries are managed under the Magnuson-Stevens Act and ATCA. The Consolidated HMS FMP is implemented by regulations at 50 CFR part 635. Copies of the Consolidated HMS FMP are available from NMFS on request.

Background

The 1999 Fishery Management Plan for Atlantic Tunas, Swordfish, and Sharks (1999 FMP) established a LAP program for the commercial Atlantic swordfish and shark fisheries to begin to rationalize harvesting capacity with the available quota and reduce latent effort while preventing further overcapitalization. To assist with enforcement and management of the program, permit restrictions were also placed on vessels fishing for bigeye, albacore, yellowfin, and skipjack (BAYS) tunas. Implementation of the HMS LAP program has been ongoing since the implementation of the 1999 FMP and is executed via issuance of permits to eligible recipients in the commercial shark, swordfish, and BAYS fisheries. Currently many eligible vessels may be required to obtain up to three separate LAPs to fish for, or retain, HMS. Since implementation, HMS LAPs have continued to increase in value. Limited availability and high LAP costs may present a significant barrier to entry into some segments of the HMS fisheries.

There are substantial differences between some segments of the U.S. Caribbean HMS fisheries and the HMS fisheries that occur off of the mainland United States including, but not limited to: limited fishing and dealer permit possession; smaller vessels; shorter trips; limited profit margins; and high local consumption of catches. These differences can create an awkward fit between the current regulations and the operational realities of Caribbean fisheries. NMFS has benefitted from receiving various recommendations to improve management of the HMS permitting program and U.S. Caribbean HMS fisheries from the Caribbean Fishery Management Council, territorial governments, and local fishermen. Some suggestions on U.S. Caribbean HMS fisheries received to date include, but are not limited to: creating a commercial Caribbean HMS permit (valid for sharks, tunas, and swordfish); combining Caribbean vessel and dealer permits (allowing vessels to sell catch); and modifying authorized gears (authorizing buoy gear in the Caribbean BAYS tuna fishery and allowing the possession of reef fish traps).

Based on discussions with the Caribbean Fishery Management Council and the territorial governments, NMFS believes that the depletion of continental shelf fishery resources may be increasing local interest in HMS resources. As local fishermen become more dependent on offshore fishery resources and increase fishing effort on HMS, there is an increased need for NMFS to modify the current HMS permitting and reporting regime to include small commercial Caribbean vessels and better collect catch and effort data.

Management Options

NMFS requests comments on management options for this action. Specifically, NMFS requests comments on the following issues and possible options: creating a small commercial vessel Caribbean HMS permit (valid for sharks, tunas, and swordfish); combining commercial Caribbean vessel and dealer permits (allowing vessels to sell/retail catch); modifying authorized gears (authorizing buoy gear in the Caribbean BAYS tuna fishery and allowing the possession of reef fish traps); and developing methods to improve reporting and data collection. NMFS also requests comment on any other fishery management issue pertaining to Caribbean HMS fisheries which the public believes should be further examined by NMFS.

NMFS intends to publish an issues and options document summarizing the different options under consideration and will announce the availability of this document at a later date. NMFS will hold at least one scoping meeting to gather public comment on the issues and options described here and in the forthcoming issues and options document (time and location details of which will be announced in a subsequent Federal Register notification).

After scoping has been completed and public comment gathered and analyzed, NMFS will proceed with preparation of a draft EIS and proposed rule, which will include additional opportunities for public comment. Until the EIS and associated documents are finalized or until other regulations are put into place, the current regulations remain in effect.

Dated: May 19, 2008.
Emily H. Menashes,
Acting Director, Office of Sustainable Fisheries, National Marine Fisheries Service.

[FR Doc. E8-11779 Filed 5-23-08; 8:45 am]

BILLING CODE 3510-22-S